DEPARTMENT OF TRANSPORTATION

Federal Railroad Administration

[Docket No. FRA-2000-7257; Notice No. 49]

Railroad Safety Advisory Committee (RSAC); Working Group Activity Update

AGENCY: Federal Railroad Administration (FRA), Department of Transportation (DOT).

ACTION: Announcement of Railroad Safety Advisory Committee (RSAC) working group activities.

SUMMARY: FRA is updating its announcement of RSAC's working group activities to reflect its current status.

FOR FURTHER INFORMATION CONTACT: Larry Woolverton, RSAC Coordinator, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: This notice serves to update FRA's last announcement of working group activities and status reports of May 22, 2008 (73 FR 29838). The 35th full RSAC meeting was held June 11, 2008, and the 36th meeting is scheduled for September 10, 2008, at the National Housing Center in Washington, DC.

Since its first meeting in April of 1996, the RSAC has accepted 25 tasks. The status for each of the open tasks is provided below:

Open Tasks

Task 96-4—Tourist and Historic Railroads. Reviewing the appropriateness of the agency's current policy regarding the applicability of existing and proposed regulations to tourist, excursion, scenic, and historic railroads. This task was accepted on April 2, 1996, and a working group was established. The working group monitored the steam locomotive regulation task. Planned future activities involve the review of other regulations for possible adaptation to the safety needs of tourist and historic railroads. Contact: Grady Cothen, Jr., (202) 493-6302.

Task 03-01—Passenger Safety. This task includes updating and enhancing the regulations pertaining to passenger safety, based on research and experience. This task was accepted on May 20, 2003, and a working group was established. Prior to embarking on substantive discussions of a specific task, the working group set forth, in writing, a specific description of the task. The working group reports planned activity to the full Committee at each scheduled full RSAC meeting, including milestones for completion of projects and progress toward completion. At the first meeting held September 9-10, 2003, a consolidated list of issues was completed. At the second meeting held November 6-7, 2003, four task groups were established: emergency preparedness; mechanical; crashworthiness; and track/vehicle interaction. The task groups met and reported on activities for working group consideration at the third meeting held May 11-12, 2004, and a fourth meeting was held October 26-27, 2004. The Working Group met on March 21-22, 2006, and again on September 12-13, 2006, at which time the group agreed to establish a task force on general passenger safety. The full Passenger Safety Working Group met on April 17-18, 2007; December 11-12, 2007; and June 18, 2008. The next meeting is scheduled for November 13, 2008. Contact: Charles Bielitz, (202) 493-6314.

(Emergency Preparedness Task Force) At the working group meeting on March 9-10, 2005, the working group received and approved the consensus report of the Emergency Preparedness Task Force related to emergency communication, emergency egress, and rescue access. These recommendations were presented to, and approved by, the full RSAC on May 18, 2005. The working group met on September 7-8, 2005, and additional, supplementary recommendations were presented to, and accepted by, the full RSAC on October 11, 2005. The Notice of Proposed Rulemaking (NPRM) was published on August 24, 2006, and was open for comment until October 23, 2006. The working group agreed upon recommendations for the final rule, including resolution of final comments received, during its April 17-18, 2007, meeting. The recommendations were presented to, and approved by, the full RSAC on June 26, 2007. The final rule regarding passenger train emergency systems, focusing on emergency communication, emergency egress, and rescue access, was published on February 1, 2008 (73 FR 6370). The task force met on October 17-18, 2007, and reached consensus on draft rule text for a followup NPRM on passenger train emergency systems, focusing on low location emergency exit path marking, emergency lighting, and emergence signage. The task force presented the draft rule text to the Passenger Safety Working Group on December 11-12, 2007, and the consensus draft rule text was presented to, and approved by, full RSAC vote during the February 20, 2008 meeting. At its most recent meeting, which was held May 13-14, 2008, the task force recommended clarifying the applicability of backup emergency communication system requirements in the February 1, 2008, final rule, and FRA announced its intention to exercise limited enforcement discretion for a new provision amending instruction requirements for emergency window exit removal. The working group ratified these recommendations on June 19, 2008. No additional task force meetings are currently scheduled. Contact: Brenda Moscoso, (202) 493-6282.

(Mechanical Task Force) (Completed) Initial recommendations on mechanical issues (revisions to Title 49 Code of Federal Regulations (CFR) part 238) were approved by the full Committee on January 26, 2005. At the working group meeting of September 7-8, 2005, the task force presented additional perfecting amendments and the full RSAC approved them on October 11, 2005. An NPRM was published in the Federal Register on December 8, 2005 (70 FR 73070). Public comments were due by February 17, 2006. The final rule was published in the Federal Register on October 19, 2006 (71 FR 61835), effective December 18, 2006.

(Crashworthiness Task Force) Among its efforts, the Crashworthiness Task Force provided consensus recommendations on static-end strength that were adopted by the working group on September 7-8, 2005. The full Committee accepted the recommendations on October 11, 2005. The Front-End Strength of Cab Cars and Multiple-Unit Locomotives NPRM was published in the Federal Register on August 1, 2007 (72 FR 42016), with comments due by October 1, 2007. A number of comments were entered into the docket, and FRA is considering each of them in drafting a final rule. To demonstrate means of determining compliance with the crashworthiness requirements of the rule, FRA scheduled deformation tests as prescribed in the NPRM. A dynamic impact test, per the performance standard, was conducted on April 16, 2008. Additionally, two quasi-static tests were conducted on June 25, 2008, and August 13, 2008. The objectives of the tests were to show alternative means for demonstrating compliance with dynamic performance and quasi-static strength-based standard outlined in the NPRM. The next task force meeting is scheduled for September 9-10, 2008. Contact: Gary Fairbanks, (202) 493-6322.

(Vehicle/Track Interaction Task Force) The task force is developing proposed revisions to 49 CFR parts 213 and 238, principally regarding high-speed passenger service. The task force met on October 9-11, 2007, and again on November 19-20, 2007, in Washington, DC, and presented the final task force report, final recommendations, and proposed rule text for approval by the Passenger Safety Working Group at the December 11-12, 2007, meeting. The final report and the proposed rule text were approved by the working group and were presented to, and approved by, full RSAC vote during the February 20, 2008, meeting. The group last met on February 27-28, 2008, and FRA is currently crafting an NPRM. No additional task force meetings are currently scheduled. Contact: John Mardente, (202) 493-1335.

(General Passenger Safety Task Force) At the working group meeting on April 17-18, 2007, the task force presented a progress report to the working group. The task force met on July 18-19, 2007, and afterwards, it reported proposed reporting cause codes for injuries involving the platform gap that was approved by the working group by mail ballot in September 2007. The full RSAC approved the recommendations for changes to 49 CFR part 225 accident/incident cause codes on October 25, 2007. The task force continues work on passenger train door securement, “second train in station,” trespasser incidents, and system safety based solutions by developing a regulatory approach to system safety. The General Passenger Safety Task Force presented draft guidance material for management of the gap that was considered and approved by the working group during the December 11-12, 2007, meeting and was presented and approved by full RSAC vote during the February 20, 2008, meeting. The group met April 23-24, 2008, and the next meeting is scheduled for November 4-6, 2008. Contact: Dan Knote, (631) 567-1596.

Task 05-01—Review of Roadway Worker Protection Issues. This task was accepted on January 26, 2005, to review 49 CFR part 214, Subpart C, Roadway Worker Protection, and related sections of Subpart A, and to recommend consideration of specific actions to advance the on-track safety of railroad employees and contractors engaged in maintenance-of-way activities throughout the general system of railroad transportation, including clarification of existing requirements. A working group was established and reported to the RSAC any specific actions identified as appropriate. The first meeting of the working group was held on April 12-14, 2005. The group drafted and accepted regulatory language for various revisions, clarifications, and additions to 32 separate items in 19 sections of the rule. However, two parties raised technical concerns regarding the draft language concerning electronic display of track authorities. The working group reported recommendations to the full Committee at the June 26, 2007, meeting. The FRA, through the NPRM process, is to address this issue along with eight additional items on which the working group was unable to reach a consensus. Comments were received and were considered during the drafting of the NPRM. In early 2008, the external working group members were solicited to review the consensus text for errata review. In order to address the heightened concerns raised with the current regulations for adjacent track on-track safety, an NPRM was published on July 17, 2008, that focused on this element of the Roadway Worker Protection rule alone. As this was an NPRM, FRA sought comment on the entire proposal, including those portions that FRA sought to clarify. However, on August 13, 2008, the NPRM was withdrawn to permit further consideration of the RSAC-reported consensus language. FRA is currently reviewing options concerning the smaller adjacent track on-track safety aspect of the rule, as well as the remaining changes to the rule. Target for completion of all items in the larger NPRM is spring of 2009. Contact: Christopher Schulte, (610) 521-8201.

Task 05-02—Reduce Human Factor-Caused Train Accident/Incidents. This task was accepted on May 18, 2005, to reduce the number of human factor-caused train accidents/incidents and related employee injuries. The Railroad Operating Rules Working Group was formed, and the group extensively reviewed the issues presented. The final working group meeting devoted to developing a proposed rule was held February 8-9, 2006. The working group was not able to deliver a consensus regulatory proposal, but did recommend that it be used to review comments on FRA's NPRM, which was published in the Federal Register on October 12, 2006 (FR 71 60372) with public comments due by December 11, 2006. Two reviews were held, one on February 8-9, 2007, and the other on April 4-5, 2007. Consensus was reached on four items and those items were presented and accepted by the full RSAC at the June 26, 2007, meeting. A final rule was published in the Federal Register on February 13, 2008 (73 FR 8442), with an effective date of April 14, 2008. Working group meetings were held on September 27-28, 2007; January 17-18, 2008; and May 21-22, 2008. The next scheduled meeting will occur on September 25-26, 2008. Contact: Douglas Taylor, (202) 493-6255.

Task 06-01—Locomotive Safety Standards. This task was accepted on February 22, 2006, to review 49 CFR part 229, Railroad Locomotive Safety Standards, and revise as appropriate. A working group was established with the mandate to report any planned activity to the full Committee at each scheduled full RSAC meeting, to include milestones for completion of projects and progress toward completion. The first working group meeting was held May 8-10, 2006. Working group meetings were held on August 8-9, 2006; September 25-26, 2006; and October 30-31, 2006, and the working group presented recommendations regarding revisions to requirements for locomotive sanders to the full RSAC on September 21, 2006. The NPRM regarding sanders was published in the Federal Register on March 6, 2007 (72 FR 9904). Comments received were discussed by the working group for clarification, and FRA published a final rule on October 19, 2007 (72 FR 59216). The working group is continuing the review of 49 CFR part 229 with a view to proposing further revisions to update the standards. The working group met on January 9-10, 2007; November 27-28, 2007; February 5-6, 2008; May 20-21, 2008; and August 5-6, 2008. The next meeting is scheduled for October 22-23, 2008, and a followup meeting is scheduled for January 6-7, 2009. Contact: George Scerbo, (202) 493-6249.

Task 06-02—Track Safety Standards and Continuous Welded Rail. Section 9005 of the Safe, Accountable, Flexible, Efficient Transportation Equity Act: A Legacy for Users (Pub. L. 109-59, “SAFETEA-LU”), the 2005 surface transportation authorization act, requires FRA to issue requirements for inspection of joint bars in continuous welded rail (CWR) to detect cracks that could affect the integrity of the track structure. See 49 U.S.C. 20142(e). FRA published an interim final rule (IFR), establishing new requirements for inspections, on November 2, 2005 (70 FR 66288). On October 11, 2005, FRA offered the RSAC a task to review comments on this IFR, but the conditions could not be established under which the Committee could have undertaken this with a view toward consensus. Comments on the IFR were received through December 19, 2005. FRA reviewed the comments. On February 22, 2006, the RSAC accepted this task to review and revise the CWR related to provisions of the Track Safety Standards (TSS), with particular emphasis on reduction of derailments and consequent injuries and damage caused by defective conditions, including joint failures, in track using CWR; a working group was established. The working group will report any planned activity to the full Committee at each scheduled full RSAC meeting, including milestones for completion of projects and progress toward completion. The first working group meeting was held April 3-4, 2006, at which time the working group reviewed comments on the IFR. The second working group meeting was held April 26-28, 2006. The working group also met May 24-25, 2006, and July 19-20, 2006. The working group reported consensus recommendations for the final rule that were accepted by the full RSAC Committee by mail ballot on August 11, 2006. The final rule was published in the Federal Register on October 11, 2006 (71 FR 59677). The working group continued review of 49 CFR 213.119 with a view to proposing further revisions to update the standards. The working group met January 30-31, 2007; April 10-11, 2007; June 27-28, 2007; August 15-16, 2007; October 23-24, 2007; and January, 8-9, 2008. The working group reported consensus recommendations for revisions to 49 CFR Section 213.119 regulations to the full RSAC on February 20, 2008, and the recommendations were accepted. FRA is preparing an NPRM. No additional working group meetings are currently scheduled on this issue. Contact: Ken Rusk, (202) 493-6236.

Task 06-03—Medical Standards for Safety-Critical Personnel. This task was accepted on September 21, 2006, to enhance the safety of persons in the railroad operating environment and the public by establishing standards and procedures for determining the medical fitness for duty of personnel engaged in safety-critical functions. A working group has been established and will report any planned activity to the full Committee at each scheduled full RSAC meeting, including milestones for completion of projects and progress toward completion. The first working group meeting was held December 12-13, 2006. The working group has held followup meetings on the following dates: February 20-21, 2007; July 24-25, 2007; August 29-30, 2007; October 31-November 1, 2007; December 4-5, 2007; February 13-14, 2008; March 26-27, 2008; and April 22-23, 2008. A task force of physicians was established in May 2007 to work on specific medical exam-related issues. The task force of physicians has had meetings or conference calls on July 24, 2007; August 20, 2007; October 15, 2007; October 31, 2007; and June 23-24, 2008. The next meeting of the task force is scheduled for September 8-10, 2008. Contact: Alan Misiaszek, (202) 493-6002.

Task 07-01—Track Safety Standards. This task was accepted on February 22, 2007, to consider specific improvements to the TSS or other responsive actions, supplementing work already under way on CWR, specifically to: Review controls applied to reuse of rail in CWR “plug rail,” review the issue of cracks emanating from bond wire attachments, consider improvements in the TSS related to fastening of rail to concrete ties, and ensure a common understanding within the regulated community concerning requirements for internal rail flaw inspections. The tasks were assigned to the Track Safety Standards Working Group. The working group will report any planned activity to the full Committee at each scheduled full RSAC meeting, including milestones for completion of projects and progress toward completion. The first working group meeting was held on June 27-28, 2007, and the group met again on August 15-16, 2007, and October 23-24, 2007. Two task forces were created under the working group: Concrete Ties and Rail Integrity Task Forces. The Concrete Ties Task Force met on November 26-27, 2007; February 13-14, 2008; April 16-17, 2008; and July 9-10, 2008. The next Concrete Ties Task Force meeting is scheduled for September 17-18, 2008. The Rail Integrity Task Force met on November 28-29, 2007; February 12-13, 2008; April 15-16, 2008; and July 8-9, 2008. The next meeting is scheduled for September 16-17, 2008. Contact: Ken Rusk, (202) 493-6236.

Task 08-01—Report on the Nation's Railroad Bridges. This task was accepted on February 20, 2008, to report to the Federal Railroad Administrator on the current state of railroad bridge safety management, update the findings and conclusions of the 1993 Summary Report of the FRA Railroad Bridge Safety Survey, and include recommendations for further action with a target date of November 3, 2008. The working group first met on April 24-25, 2008, with followup meetings held on June 12-13, 2008, and August 7-8, 2008. The working group will present findings and a final report to the RSAC during the September 10, 2008, full Committee meeting. Contact: Gordon Davids, (202) 230-9568.

Completed Tasks

Task 96-1—(Completed) Revising the freight power brake regulations.

Task 96-2—(Completed) Reviewing and recommending revisions to the TSS (49 CFR part 213).

Task 96-3—(Completed) Reviewing and recommending revisions to the radio standards and procedures (49 CFR part 220).

Task 96-5—(Completed) Reviewing and recommending revisions to steam locomotive inspection standards (49 CFR part 230).

Task 96-6—(Completed) Reviewing and recommending revisions to miscellaneous aspects of the regulations addressing locomotive engineer certification (49 CFR part 240).

Task 96-7—(Completed) Developing roadway maintenance machines (on-track equipment) safety standards.

Task 96-8—(Completed) This planning task evaluated the need for action responsive to recommendations contained in a report to Congress titled, Locomotive Crashworthiness & Working Conditions.

Task 97-1—(Completed) Developing crashworthiness specifications (49 CFR part 229) to promote the integrity of the locomotive cab in accidents resulting from collisions.

Task 97-2—(Completed) Evaluating the extent to which environmental, sanitary, and other working conditions in locomotive cabs affect the crew's health and the safe operation of locomotives, proposing standards where appropriate.

Task 97-3—(Completed) Developing event recorder data survivability standards.

Task 97-4—and Task 97-5—(Completed) Defining Positive Train Control (PTC) functionalities, describing available technologies, evaluating costs and benefits of potential systems, and considering implementation opportunities and challenges, including demonstration and deployment.

Task 97-6—(Completed) Revising various regulations to address the safety implications of processor-based signal and train control technologies, including communications-based operating systems.

Task 97-7—(Completed) Determining damages qualifying an event as a reportable train accident.

Task 00-1—(Completed-task withdrawn) Determining the need to amend regulations protecting persons who work on, under, or between rolling equipment and persons applying, removing, or inspecting rear end marking devices (Blue Signal Protection).

Task 01-1—(Completed) Developing conformity of FRA's regulations for accident/incident reporting (49 CFR part 225) to revised regulations of the Occupational Safety and Health Administration, U.S. Department of Labor, and to make appropriate revisions to the FRA Guide for Preparing Accident/Incident Reports (Reporting Guide).

Please refer to the notice published in the Federal Register on March 11, 1996 (61 FR 9740), for more information about the RSAC.

Issued in Washington, DC on August 20, 2008.
Grady C. Cothen, Jr.,
Deputy Associate Administrator for Safety Standards and Program Development.

[FR Doc. E8-20030 Filed 8-28-08; 8:45 am]

BILLING CODE 4910-06-P